DEPARTMENT OF ENERGY

Federal Energy Regulatory Commission

[Docket Nos. CP04-413-000, CP04-414-000, and CP04-415-000]

Entrega Gas Pipeline Inc.; Notice of Application

September 28, 2004.

Take notice that on September 17, 2004, Entrega Gas Pipeline, Inc. (Entrega); 950 17th Street, Suite 2600, Denver, Colorado, 80202, filed an application pursuant to section 7(c) of the Natural Gas Act (NGA) and parts 157 and 284 of the Commission's regulations, for: (i) A certificate of public convenience and necessity authorizing the construction, ownership, and operation of new interstate natural gas pipeline facilities; (ii) a blanket certificate of public convenience and necessity authorizing Entrega to provide open-access transportation services, with pre-granted abandonment approval; and (iii) a blanket certificate of public convenience and necessity to construct, operate, and/or abandon certain eligible facilities, and services related thereto. Entrega is also requesting authorization for its proposed recourse rates for transportation service and approval of its Pro Forma Tariff. This application is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

Specifically, Entrega proposes to construct and operate 327 miles of 36-inch diameter and 42-inch diameter pipeline from the Meeker Hub in Rio Blanco County, Colorado and extending through Moffat County, Colorado and Sweetwater, Carbon, Albany, and Laramie Counties in Wyoming, and terminating at the Cheyenne Hub in Weld County, Colorado. Entrega also proposes to construct compressor stations at three locations in Moffat County, Colorado (24,000 horsepower), Sweetwater County, Wyoming (15,500 horsepower), and Carbon County, Wyoming (15,500 horsepower). In addition, Entrega proposes to construct 7 receipt/delivery points along the pipeline. Entrega estimates that the proposed facilities will cost $644,025,000. Entrega states that the pipeline will be able to transport up to 1,500,000 Dth per day of natural gas.

Any questions about this application should be directed to Larry Drader, President, Entrega Gas Pipeline, Inc., 950 17th Suite 2600, Denver, Colorado, at (303) 389-5069 or fax (720) 956-3610; or to Keith M. Sappenfield, II, Regulatory Lead, Entrega Gas Pipeline, Inc., 1616 South Voss Road, Suite 750, Houston, Texas 77057, at (832) 204-1247 or fax (713) 952-3617.

On March 19, 2004 the Commission staff granted Entrega's request to utilize the National Environmental Policy Act (NEPA) Pre-Filing Process and assigned Docket No. PF04-7-000 to staff activities involving Entrega. Now, as of the filing of Entrega's application on September 17, 2004, the NEPA Pre-Filing Process for Entrega's project is closed. From this time forward, Entrega's proceeding will be conducted in Docket Nos. CP04-413-000, et. al.

There are two ways to become involved in the Commission's review of this project. First, any person wishing to obtain legal status by becoming a party to the proceedings for this project should, on or before the comment date listed below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of this filing and all subsequent filings made with the Commission and must mail a copy of all filing to the applicant and to every other party in the proceeding. Only parties to the proceeding can ask for court review of Commission orders in the proceeding.

However, other persons do not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to this project provide copies of their protests only to the party or parties directly involved in the protest.

Persons may also wish to comment further only on the environmental review of this project. Environmental commenters will be placed on the Commission's environmental mailing list, will receive copies of environmental documents issued by the Commission, and will be notified of meetings associated with the Commission's environmental review process. Those persons, organizations, and agencies who submitted comments during the NEPA Pre-Filing Process in Docket No. PF04-7-000 are already on the Commission staff's environmental mailing list for the proceeding in the above dockets and may file additional comments on or before the below listed comment date. Environmental commenters will not be required to serve copies of filed documents on all other parties. However, environmental commenters are also not parties to the proceeding and will not receive copies of all documents filed by other parties or non-environmental documents issued by the Commission. Further, they will not have the right to seek court review of any final order by Commission in this proceeding.

The Commission strongly encourages electronic filings of comments, protests, and interventions via the Internet in lieu of paper. See 18 CFR 385.2001(a)(1)(iii) and the instructions on the Commission's Web site (http://www.ferc.gov) under the “e-Filing” link.

Comment Date: October 19, 2004.

Magalie R. Salas,
Secretary.

[FR Doc. E4-2483 Filed 10-4-04; 8:45 am]

BILLING CODE 6717-01-P